DEPARTMENT OF THE TREASURY

Customs Service

[T.D. 00-77]

Cancellation of Customs Broker Licenses

AGENCY: U.S. Customs Service, Department of the Treasury.

ACTION: Customs Broker License Cancellations.

I, as Assistant Commissioner, Office Field Operations, pursuant to Section 641 of the Tariff Act of 1930, as amended (19 U.S.C. 1641), and the Customs Regulations (19 CFR 111), hereby cancel the following Customs broker's licenses without prejudice based on the authority as annotated:

Name | Port | License No. | Authority
United Motor Freight, Inc | Seattle | 14362 | 19 CFR 111.51(a).
ClearFreight Corporation | San Francisco | 06174 | 19 CFR 111.51(a).

Dated: October 25, 2000.
Bonni G. Tischler,
Assistant Commissioner, Office of Field Operations.

[FR Doc. 00-27837 Filed 10-30-00; 8:45 am]

BILLING CODE 4820-02-P